DEPARTMENT OF TRANSPORTATION

Federal Aviation Administration

Notice of Intent To Rule on Application To Impose and Use a Passenger Facility Charge (PFC) at San Diego International Airport, San Diego, CA

AGENCY: Federal Aviation Administration (FAA), DOT.

ACTION: Notice of intent to rule on application.

SUMMARY: The FAA proposes to rule and invites public comment on the application to impose and use the revenue from a PFC at San Diego International Airport under the provisions of the Aviation Safety and Capacity Expansion Act of 1990 (Title IX of the Omnibus Budget Reconciliation Act of 1990) (Pub. L. 101-508) and Part 158 of the Federal Aviation Regulations (14 CFR Part 158).

DATES: Comments must be received on or before March 31, 2003.

ADDRESSES: Comments on this application may be mailed or delivered in triplicate to the FAA at the following address: Federal Aviation Administration, Airports Division, 15000 Aviation Blvd., Lawndale, CA 90261. In addition, one copy of any comments submitted to the FAA must be mailed or delivered to Ms. Thella Bowens, Interim Executive Director, San Diego County Regional Airport Authority at the following address: P.O. Box 82776, San Diego, CA 92138-2776. Air carriers and foreign air carriers may submit copies of written comments previously provided to the San Diego County Regional Airport Authority under section 158.23 of Part 158.

FOR FURTHER INFORMATION CONTACT: John Milligan, Supervisor Standards Section, Federal Aviation Administration, Airports Division, 15000 Aviation Boulevard, Room 3024, Lawndale, CA 90261, Telephone: (310) 725-3621. The application may be reviewed in person at this same location.

SUPPLEMENTARY INFORMATION: The FAA proposes to rule and invites public comment on the application to impose and use the revenue from a PFC at San Diego International Airport under the provisions of the Aviation Safety and Capacity Expansion Act of 1990 (Title IX of the Omnibus Budget Reconciliation Act of 1990) (Pub. L. 101-508) and Part 158 of the Federal Aviation Regulations (14 CFR Part 158). On February 18, 2003, the FAA determined that the application to impose and use the revenue from a PFC submitted by the San Diego County Regional Airport Authority was substantially complete within the requirements of section 158.25 of Part 158. The FAA will approve or disapprove the application, in whole or in part, no later than June 10, 2003.

The following is a brief overview of the impose and use application No. 03-03-C-00-SAN:

Level of proposed PFC: $4.50.

Proposed charge effective date: June 1, 2003.

Proposed charge expiration date: December 31, 2005.

Total estimated PFC revenue: $83,975,730.

Brief description of the proposed project: Replace ARFF Vehicle, Taxiway Improvements, Runway Improvements, Commuter Terminal Apron Improvements, Noise Mitigation, Environmental Remediation, Environmental Studies, Airport Security Improvements, Terminal Improvements, Airport Access Improvements, and Infrastructure Data Management System (Phase 3).

Class or classes of air carriers, which the public agency has requested, not be required to collect PFCs: Nonscheduled/on-demand air carriers filing FAA Form 1800-31.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the San Diego County Regional Airport Authority.

Issued in Lawndale, California, on February 18, 2003.
Ellsworth Chan,
Acting Manager, Airports Division, Western-Pacific Region.

[FR Doc. 03-4799 Filed 2-27-03; 8:45 am]

BILLING CODE 4910-13-M